DEPARTMENT OF STATE

[Public Notice 4640]

Shipping Coordinating Committee; Notice of Meeting

The Shipping Coordinating Committee will conduct an open meeting at 9:30 a.m. on Monday, May 3, 2004, in Room 2415, at U.S. Coast Guard Headquarters, 2100 2nd Street, SW., Washington, DC 20593-0001. The purpose of this meeting will be to finalize preparations for the 78th Session of the Maritime Safety Committee, and associated bodies of the International Maritime Organization (IMO), which is scheduled for May 12-21, 2004, at IMO Headquarters in London. At this meeting, papers received and the anticipated U.S. positions for the Maritime Safety Committee will be discussed. Among other things, the items of particular interest are:

—Adoption of amendments to SOLAS for emergency training;

—Drilling, maintenance and inspection of life-saving appliances;

—Long range identification and tracking of ships;

—Permanent means of access for oil tankers and bulk carriers;

—Adoption of amendments to the International Maritime Dangerous Goods (IMDG Code);

—Large passenger ship safety;

—Bulk carrier safety;

—Goal-based new ship construction standards;

—Measures to enhance maritime security;

—Reports of nine subcommittees; and

—Ship design and equipment (Bulk Liquids and Gases; Flag State Implementation; Safety of Navigation; Stability, Load Lines and Fishing Vessel Safety; Dangerous Goods, Solid Cargoes and Containers; Fire Protection; Training and Watchkeeping; and Radiocommunications and Search and Rescue).

Members of the public may attend this meeting up to the seating capacity of the room. Interested persons may seek information by writing to Mr. Joseph J. Angelo, Commandant (G-MS), U.S. Coast Guard Headquarters, 2100 2nd Street, SW., Room 1218, Washington, DC 20593-0001 or by calling (202) 267-2970.

Dated: March 9, 2004.
Steven D. Poulin,
Executive Secretary, Department of State.

[FR Doc. 04-6123 Filed 3-17-04; 8:45 am]

BILLING CODE 4710-07-P